DEPARTMENT OF TRANSPORTATION

Pipeline and Hazardous Materials Safety Administration

Hazardous Materials: Notice of Applications for Special Permits

AGENCY: Pipeline and Hazardous Materials Safety Administration (PHMSA), DOT.

ACTION: List of Applications for Modification of Special Permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 11, 2017.

Address comments to: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on June 1, 2017.
Donald Burger,
Chief, Office of the Special Permits and Approvals.

Special Permits Data
Application No. | Docket No. | Applicant | Regulation(s) affected | Nature of the special permits thereof
7277-M |  | STRUCTURAL COMPOSITES INDUSTRIES LLC | 180.205, 173.302a(a)(1), 173.304a(a)(1), 173.304a(d) | To modify the special permit to authorize an additional Division 2.2 gas. (modes 1,2,3,4)
14523-M |  | PACIFIC BIO-MATERAL MANAGEMENT, INC | 173.199(a), 173.196(A), 178.603, 178.603, 178.609(d), 178.609(d) | To modify the special permit to authorize, an additional packaging for transporting vials of hazmat. (mode 1)
14951-M |  | HEXAGON LINCOLN, INC | 173.301(f) | To authorize modal acoustic emissions (MAE) as an alternative method of tank recertification. (mode 1)
16536-M |  | FIBA TECHNOLOGIES, INC | 178.37(k)(1), 178.45(A)((1) | To authorize a reduction in the tensile test specimens from 2 to 1 as is permitted by ISO 11120. (modes 1,2,3,4)
16452-M |  | THE PROCTOR & GAMBLE COMPANY | 171.1, 180.1 | To modify the permit to clarify the requirement for strong outer packaging to meet the requirements normally applied to packages of “limited quantities” moving by air. (modes 1,2,3,4)
20255-M |  | STERICYCLE SPECIALITY WASTE SOLUTIONS, INC | 171.1, 180.1 | To modify the special permit to authorize cargo vessel as an approved means or transportation. (modes 1,3)

[FR Doc. 2017-12127 Filed 6-23-17; 8:45 am]

BILLING CODE 4909-60-M